DEPARTMENT OF COMMERCE

Bureau of Industry and Security

Chemical Weapons Convention Declaration Forms

ACTION: Notice and request for comments.

SUMMARY: The Department of Commerce, as part of its continuing effort to reduce paperwork and respondent burden, invites the general public and other Federal agencies to take this opportunity to comment on proposed and/or continuing information collections, as required by the Paperwork Reduction Act of 1995, Public Law 104-13 (44U.S.C. 3506(c)(2)(A)).

DATES: Written comments must be submitted on or before August 26, 2002.

ADDRESSES: Direct all written comments to Madeleine Clayton, DOC Paperwork Clearance Officer, (202) 482-3129, Department of Commerce, Room 6608, 14th and Constitution Avenue, NW, Washington, DC 20230.

FOR FURTHER INFORMATION CONTACT: Requests for additional information or copies of the information collection instrument(s) and instructions should be directed to Marna Dove, BIS ICB Liaison, (202) 482-5211, Department of Commerce, Room 6622, 14th and Constitution Avenue, NW., Washington, DC, 20230.

SUPPLEMENTARY INFORMATION:

I. Abstract

The Chemical Weapons Convention (CWC) bans the development, production, acquisition, stockpiling, retention and direct or indirect transfer of chemical weapons. Under the CWC, companies that produce, process, consume, utilize, or transfer certain chemicals must file initial and annual declarations. This information will be submitted to the Organization for the prohibition of Chemical Weapons (OPCW), the treaty's international body. The collection of this information is required to comply with the treaty.

II. Method of Collection

Submitted on BXA Declaration forms.

III. Data

OMB Number: 0694-0091.

Form Number: Form 1-1 Schedule 1 Facility or Trading Company Identification; Form 1-2 Declaration on Schedule 1 Chemical Activities at the Facility During the Previous Year; Form 2-1 Schedule 2 Plant Site or Trading Company Identification, et al.

Type of Review: Regular submission.

Affected Public: Individuals, businesses or other for-profit and not-for-profit institutions, federal government.

Estimated Number of Respondents: 792.

Estimated Time Per Response: 10 minutes—31 hours per response.

Estimated Total Annual Burden Hours: 27,020.

Estimated Total Annual Cost: $43,732.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they will also become a matter of public record.

Dated: June 20, 2002.
Madeleine Clayton,
Departmental Paperwork Clearance Officer, Office of the Chief Information Officer.

[FR Doc. 02-16042 Filed 6-25-02; 8:45 am]

BILLING CODE 3510-33-P